INTERNATIONAL TRADE COMMISSION

[Investigation Nos. TA-131-037 and TA-2104-029]

U.S.-EU Transatlantic Trade and Investment Partnership Agreement: Advice on the Probable Economic Effect of Providing Duty-Free Treatment for Imports

AGENCY: United States International Trade Commission.

ACTION: Institution of investigations and scheduling of hearing.

SUMMARY: Following receipt on March 26, 2013, of a request from the United States Trade Representative (USTR), the Commission instituted investigation Nos. TA-131-037 and TA-2104-029, U.S.-EU Transatlantic Trade and Investment Partnership Agreement: Advice on the Probable Economic Effect of Providing Duty-Free Treatment for Imports.

DATES: May 16, 2013: Deadline for filing requests to appear at the public hearing.

May 17, 2013: Deadline for filing pre-hearing briefs and statements.

June 5, 2013: Public hearing.

June 11, 2013: Deadline for filing post-hearing briefs and statements.

June 18, 2013: Deadline for filing all other written submissions.

September 26, 2013: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Vincent Honnold, Project Leader (202-205-3314 or vincent.honnold@usitc.gov), or Jeffrey Clark, Deputy Project Leader (202-205-3318 or jeffrey.clark@usitc.gov), for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter of March 25, 2013, the USTR requested that the Commission provide certain advice under section 131 of the Trade Act of 1974 (19 U.S.C. 2151) and an assessment under section 2104(b)(2) of the Trade Act of 2002 (19 U.S.C. 3804(b)(2)) with respect to the effects of providing duty-free treatment for imports of products from all of the European Union (EU) member states.

More specifically, the USTR, under authority delegated by the President and pursuant to section 131 of the Trade Act of 1974, requested that the Commission provide a report containing its advice as to the probable economic effect of providing duty-free treatment for imports of products from all of the EU member states on (i) industries in the United States producing like or directly competitive products, and (ii) consumers. The USTR asked that the Commission's analysis consider each article in chapters 1 through 97 of the Harmonized Tariff Schedule of the United States (HTS) for which tariffs will remain, taking into account implementation of U.S. commitments in the World Trade Organization. The USTR asked that the advice be based on the HTS in effect during 2013 and trade data for 2012. The USTR also requested that the Commission, in preparing its advice, assume that any known U.S. nontariff barrier will not be applicable to such imports, and that the Commission note in its report any instance in which the continued application of a U.S. nontariff barrier would result in different advice with respect to the effect of the removal of the tariff.

In addition, the USTR requested that the Commission prepare an assessment, pursuant to section 2104(b)(2) of the Trade Act of 2002, of the probable economic effects of eliminating tariffs on imports from all of the EU member states of those agricultural products on the list attached to his letter on (i) industries in the United States producing the product concerned, and (ii) the U.S. economy as a whole. The USTR's request and list of agricultural products are posted on the Commission's Web site at http://www.usitc.gov.

As requested, the Commission will provide its report to the USTR by September 26, 2013. The USTR indicated that those sections of the Commission's report that relate to the advice and assessment of probable economic effects will be classified. The USTR also indicated that he considers the Commission's report to be an inter-agency memorandum that will contain pre-decisional advice and be subject to the deliberative process privilege.

Public Hearing: A public hearing in connection with these investigations will be held at the U.S. International Trade Commission Building, 500 E Street SW., Washington, DC, beginning at 9:30 a.m., June 5, 2013. Requests to appear at the public hearing should be filed with the Secretary not later than 5:15 p.m., May 16, 2013. All pre-hearing briefs and statements should be filed not later than 5:15 p.m., May 17, 2013; and all post-hearing briefs and statements should be filed not later than 5:15 p.m., June 11, 2013. All briefs should be filed in accordance with the requirements in the “Submissions” section below.

Written Submissions: In lieu of or in addition to participating in the hearing and filing briefs and statements relating to the hearing, interested parties are invited to file written submissions concerning these investigations. All written submissions should be addressed to the Secretary, and should be received not later than 5:15 p.m., June 18, 2013. All written submissions must conform to the provisions of section 201.8 of the Commission's Rules of Practice and Procedure (19 CFR 201.8). Section 201.8 and the Commission's Handbook on Filing Procedures require that interested parties file documents electronically on or before the filing deadline and submit eight (8) true paper copies by 12:00 noon eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include some or all of the confidential business information submitted in the course of the investigations in the report it sends to the USTR. The Commission will not otherwise publish any confidential business information in a manner that would reveal the operations of the firm supplying the information.

By order of the Commission.
Issued: April 18, 2013.
Lisa R. Barton,
Acting Secretary to the Commission.

[FR Doc. 2013-09487 Filed 4-22-13; 8:45 am]

BILLING CODE 7020-02-P